ENVIRONMENTAL PROTECTION AGENCY

[FRL-8250-4]

State Innovation Grant Program, Notice of Availability of Solicitation for 2007 Awards

AGENCY: Environmental Protection Agency (EPA).

ACTION: Notice.

SUMMARY: The U.S. Environmental Protection Agency's National Center for Environmental Innovation (NCEI) is giving notice of the availability of its solicitation for pre-proposals for the 2007 “State Innovation Grant Program,” an assistance agreement program to support innovation by state environmental regulatory agencies.

Only the principal environmental regulatory agency within each state, U.S. territory, or the District of Columbia (generally, where delegated authorities for federal environmental regulations exist) is eligible to receive funding under this solicitation.

DATES: Eligible agencies will have until January 18, 2007 to respond with a pre-proposal, budget, and project narrative. Eligible agencies from the fifty (50) states, four (4) U.S. territories, and Washington, DC were notified of the solicitation's availability by e-mail and transmittals on November 27 and November 28, 2006.

ADDRESSES: Copies of this solicitation can be downloaded from EPA's State Innovation Grant Web site at: http://www.epa.gov/innovation/stategrants/solicitation2007.pdf. Copies of this solicitation may also be requested from the Agency by telephone ((202)-566-2186), by e-mail (innovation_state_grants@epa.gov), or by mail (see below).

Applicants are requested to apply electronically through http://www.grants.gov, as explained in Section IV of the solicitation. Applicants must submit all information, as explained in Section IV of the solicitation, with their application package. Questions concerning the solicitation, and/or questions about responding to this notice may be submitted in writing via:

E-mail to: innovation_state_grants@epa.gov; Fax to: (202) 566-2220; or USPS mail to: State Innovation Grants Program, National Center for Environmental Innovation, Office of the Administrator, U.S. Environmental Protection Agency (MC 1807T), 1200 Pennsylvania Ave., NW., Washington, DC 20460; or EPA will respond to all questions in writing, and all questions and responses will be posted on the EPA State Innovation Grant Web site at http://www.epa.gov/innovation/stategrants/.

SUPPLEMENTARY INFORMATION: The U.S. Environmental Protection Agency (EPA) is soliciting pre-proposals for the “State Innovation Grant Program,” an assistance agreement program, in an effort to support innovation by state environmental regulatory agencies. In April 2002, EPA issued its plan for future innovation efforts, published as Innovating for Better Environmental Result: A Strategy to Guide the Next Generation of Innovation at EPA (EPA 100-R-02-002; http://www.epa.gov/innovation/pdf/strategy.pdf). This assistance agreement program strengthens the EPA's partnership with the states by assisting state innovation that supports EPA's Strategy. EPA would like to help states build on previous experience and undertake strategic innovation projects that promote larger-scale models for “next generation” environmental protection and that promise better environmental results. EPA is interested in funding projects that: (1) Go beyond a single facility experiment to promote change that is “systems-oriented,” (2) provide better results from a program, process, or sector-wide innovation, and (3) promote integrated (multi-media) environmental management with high potential for transfer to other states, U.S. territories, and tribes.

“Innovation in Permitting” is again the theme for the 2007 State Innovation Grants solicitation. Under this theme, EPA is interested in pre-proposals for projects that:

• Support the development of state Environmental Results Programs (ERPs);

• Involve the application of Environmental Management Systems (EMS), including those that explore the relationship of EMS to permitting or otherwise promote the use of EMS to improve environmental performance beyond permit requirements (see EPA's Strategy for Determining the Role of EMS in Regulatory Programs at http://www.epa.gov/ems or http://www.epa.gov/ems/docs/EMS_and_the_Reg_Structure_41204Fpdf); or

• Implement National Environmental Performance Track Programs, or similar state performance-based environmental leadership programs, particularly including the development and implementation of incentives.

EPA interprets “innovation in permitting” broadly to include permitting programs, pesticide licensing programs, and other alternatives or supplements to permitting programs. EPA is interested in creative approaches for both: (1) Achieving mandatory federal and state standards; and (2) encouraging performance and addressing environmental issues above and beyond minimum requirements.

This solicitation begins the fifth State Innovation Grant competition. Of State Innovation Grant Program awards made in prior rounds under the theme of “Innovation in Permitting” (including those with pending awards): Fifteen (15) were provided for development of Environmental Results Programs, seven (7) were related to Environmental Management Systems and permitting, five (5) were to enhance Performance-Based Environmental Leadership programs, two (2) were for Watershed-based permitting, and one (1) was for an information technology innovation for the application of Geographic Information Systems (GIS) and a web-based portal to a permitting process. For more information on the prior State Innovation Grant Program solicitations and awards, please see the “Highlights of Previous Awards” attachment to this solicitation, or see the EPA State Innovation Grants Web site at http://www.epa.gov/innovation/stategrants.

Dated: October 30, 2006.
Elizabeth Shaw,
Director, Office of Environmental Policy Innovation.

[FR Doc. E6-20351 Filed 11-30-06; 8:45 am]

BILLING CODE 6560-50-P